DEPARTMENT OF THE INTERIOR

National Park Service

[NPS-WASO-ADIR-PMSP-20103; PPWOIRADC1, PPMPSAS1Y.YP0000 (166)]

Proposed Information Collection; Case Incident Report Request

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before March 15, 2016.

ADDRESSES: Send your comments on the IC to Madonna L. Baucum, Information Collection Clearance Officer, National Park Service, 12201 Sunrise Valley Drive (Room 2C114, Mail Stop 242), Reston, VA 20192 (mail); or madonna_baucum@nps.gov (email). Please include “1024—New Case Incident Report Request” in the subject line of your comments.

FOR FURTHER INFORMATION CONTACT: To request additional information about this IC, contact Charis Wilson, National Park Service, 12795 W. Alameda Parkway, P.O. Box 25287, Denver, CO 80225-0287 (mail); (303) 969-2959 (phone), or charis_wilson@nps.gov (email).

SUPPLEMENTARY INFORMATION:

I. Abstract

The NPS maintains law enforcement incident reports in the Department of the Interior's Incident and Management Reporting System (IMARS), which is a Privacy Act System of Records (DOI-10). In accordance with the Privacy Act (5 U.S.C. 552a(b)), the NPS is barred from releasing copies of records contained within IMARS, including but not limited to motor vehicle accident reports, without the prior written request and/or consent of the individual to whom the record pertains unless authorized under appropriate routine-use exceptions.

The NPS requires the submission of NPS Form 10-945, “Case Incident Report Request” in order to verify a requester's identity and retrieve responsive records in order to respond to requests for copies of incident records from persons involved or injured in incidents, owners of property damaged in such incidents, or these individuals' duly verified insurance companies, representatives, and/or attorneys. The information collected via NPS Form 10-945 includes:

• Full name of Requester;

• Case Number;

• Social Security Number;

• Current Address;

• Date of Birth; and

• Place of birth.

II. Data

OMB Control Number: 1024-New.

Title: Case Incident Report Request.

Service Form Number(s): NPS Form 10-945, “Case Incident Report Request”.

Type of Request: New.

Description of Respondents: Individuals requesting copies of NPS case incident reports that are maintained within the Department of Interior's Incident Management and Reporting System (IMARS), which is a Privacy Act system of records (DOI-10).

Respondent's Obligation: Voluntary.

Frequency of Collection: On occasion.

Activity | Estimated annual number of responses | Estimated completion time per response (minutes) | Estimated total annual burden hours
NPS Form 10-945, “Case Incident Report Request” | 3,000 | 3 | 150
Totals | 3,000 |  | 150

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: January 11, 2016.
Madonna L. Baucum,
Information Collection Clearance Officer, National Park Service.

[FR Doc. 2016-00714 Filed 1-14-16; 8:45 am]

BILLING CODE 4310-EH-P